DEPARTMENT OF THE INTERIOR

Fish and Wildlife Service

[FWS-R8-ES-2018-N067; FXES11140800000-189-FF08EVEN00]

Habitat Conservation Plans for the California Tiger Salamander; Categorical Exclusion for the La Laguna Los Alamos Project and the Phillips 66 Idle Pipeline 352×4 Abandonment Project; Santa Barbara County, California

AGENCY: Fish and Wildlife Service, Interior.

ACTION: Notice of availability; request for comments.

SUMMARY: We, the U.S. Fish and Wildlife Service (Service), have received two applications for an incidental take permit for the federally endangered California tiger salamander (Santa Barbara County distinct population segment) under the Endangered Species Act of 1973, as amended. La Laguna Los Alamos LLC, submitted a permit application which, if issued, would authorize take incidental to otherwise lawful activities associated with the La Laguna Los Alamos Project draft habitat conservation plan. Phillips 66 Company submitted a permit application which, if issued, would authorize take incidental to otherwise lawful activities associated with the Phillips 66 Idle Pipeline 352×4 Abandonment Project draft habitat conservation plan. We invite public comment on these documents.

DATES: Written comments should be received on or before April 24, 2019.

ADDRESSES: To obtain documents: You may download a copy of the draft habitat conservation plan and draft low-effect screening form and environmental action statement at http://www.fws.gov/ventura/, or you may request copies of the documents by sending U.S. mail (below) or by phone (see FOR FURTHER INFORMATION CONTACT).

To submit written comments: Please send us your written comments using one of the following methods:

• U.S. mail: Send your comments to Stephen P. Henry, Field Supervisor, Ventura Fish and Wildlife Office, U.S. Fish and Wildlife Service, 2493 Portola Road, Suite B, Ventura, CA 93003.

• Facsimile: Fax your comments to 805-644-3958.

• Electronic mail: Send your comments to rachel_henry@fws.gov.

FOR FURTHER INFORMATION CONTACT: Rachel Henry, Fish and Wildlife Biologist, 805-677-3312 (by phone), or at the Ventura Fish and Wildlife office (by mail; see ADDRESSES).

SUPPLEMENTARY INFORMATION: We have received two applications for incidental take permits under the Endangered Species Act of 1973, as amended (ESA; 16 U.S.C. 1531 et seq.). The applicants of the incidental take permits have developed draft habitat conservation plans (HCPs) for the respective projects that include measures to mitigate and avoid/minimize impacts to the federally endangered Santa Barbara County distinct population segment (DPS) of California tiger salamander (Ambystoma californiense). The permits would authorize take of the Santa Barbara County DPS of the federally endangered California tiger salamander incidental to otherwise lawful activities.

These permits would authorize incidental take associated with the two respective projects: The draft La Laguna HCP and the draft Phillips 66 Idle Pipeline 352x4 Abandonment Project HCP. We invite public comment on the draft HCPs, draft low-effect screening forms, and environmental action statements.

Background

The Service listed the Santa Barbara County DPS of the California tiger salamander as endangered on September 21, 2000 (65 FR 57242). Section 9 of the ESA (16 U.S.C. 1538) and its implementing regulations prohibit the “take” of fish or wildlife species listed as endangered or threatened. “Take” is defined under the ESA to include the following activities: “[T]o harass, harm, pursue, hunt, shoot, wound, kill, trap, capture, or collect, or to attempt to engage in any such conduct” (16 U.S.C. 1532); however, under section 10(a)(1)(B) of the ESA (16 U.S.C. 1539(a)(1)(B)), we may issue permits to authorize incidental take of listed species. Incidental take is take that is incidental to, and not the purpose of, carrying out of an otherwise lawful activity. Regulations governing incidental take permits for endangered wildlife are in the Code of Federal Regulations (CFR) at 50 CFR 17.22. Issuance of an incidental take permit also must not jeopardize the existence of federally listed fish, wildlife, or plant species. The permittees would receive assurances under our “No Surprises” regulations (50 CFR 17.22(b)(5)) regarding conservation activities for the California tiger salamander.

Proposed Project Activities

La Laguna Los Alamos, LLC, has applied for a permit for incidental take of the California tiger salamander. The take would occur in association with installation and operation of a vineyard, cultivation of berries, other agricultural development that involves land-clearing and/or ripping, plowing and other soil cultivation techniques, and/or construction of a residential development that includes one single-family residence. The project site includes approximately 29 acres of suitable upland habitat for the California tiger salamander. The Service has designated these 29 acres as critical habitat for the Santa Barbara County DPS of the California tiger salamander. The HCP includes avoidance and minimization measures for the covered species and mitigation for unavoidable loss of suitable upland habitat through establishment of a conservation easement. Mitigation for unavoidable take of the species consists of the permanent protection of 34 acres of designated critical habitat for the Santa Barbara County DPS of the California tiger salamander.

Phillips 66 Company has applied for a permit for incidental take of the California tiger salamander. The take would occur in association with activities necessary for the removal and abandonment of an idled pipeline. The site includes approximately 1.22 acres of suitable upland habitat for the California tiger salamander. Of these 1.22 acres, the Service has designated 0.15 acre as critical habitat for the Santa Barbara County DPS of the California tiger salamander. The HCP includes avoidance and minimization measures for the covered species and mitigation for unavoidable loss of suitable upland habitat by the funding of an appropriate mitigation project through a Service-approved third party mitigation and conservation account.

Preliminary Determinations

The Service has made preliminary determinations that issuance of these incidental take permits is neither a major Federal action that will significantly affect the quality of the human environment within the meaning of section 102(2)(C) of the National Environmental Policy Act (NEPA; 42 U.S.C. 4321 et seq.), nor will they individually or cumulatively have more than a negligible effect on the species covered in the HCPs. The Service considers the impacts of the La Laguna Los Alamos Project on the California tiger salamander to be minor, as the project includes the permanent protection of 34 acres of suitable, high-quality habitat in a conservation easement. The Service considers the impacts of the Phillips 66 Idle Pipeline 352×4 Abandonment Project on the California tiger salamander to be minor, as the affected area is small (approximately 1.22 acres) and of low habitat quality. Therefore, based on this preliminary determination, both permits qualify for a categorical exclusion under NEPA.

Public Comments

If you wish to comment on the permit applications, draft HCPs, or associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2019-05613 Filed 3-22-19; 8:45 am]

BILLING CODE 4333-15-P